DEPARTMENT OF COMMERCE

International Trade Administration

[A-421-807]

Certain Hot-Rolled Carbon Steel Flat Products from the Netherlands; Amended Final Results of the Antidumping Duty Administrative Review

AGENCY: Import Administration, International Trade Administration, Department of Commerce.

SUMMARY: On May 22, 2007, the Department of Commerce (the Department) published Certain Hot-Rolled Carbon Steel Flat Products from the Netherlands; Final Results of Antidumping Duty Administrative Review, 72 FR 28676, (May 22, 2007) (Final Results), covering the period of review (POR) November 1, 2004, through October 31, 2005. We are amending the Final Results to correct ministerial errors made in the calculation of the dumping margins for Corus Staal BV (Corus Staal), pursuant to section 751(h) of the Tariff Act of 1930, as amended (the Act).

SUPPLEMENTARY INFORMATION: On May 22, 2007, the Department published the final results of the 2004-2005 administrative review of the antidumping duty order on certain hot-rolled carbon steel flat products from the Netherlands, in which we determined that the respondent, Corus Staal, sold subject merchandise to the United States at less than normal value during the period of review (POR). See Final Results. On May 22, 2007, we received an allegation, timely filed pursuant to section 751(h) of the Act and 19 CFR 351.224(c)(2), from Corus Staal that the Department made a ministerial error in the Final Results. The petitioners did not comment on the alleged ministerial error.

After analyzing Corus Staal's submission, we have determined, in accordance with section 751(h) of the Act and 19 CFR 351.224, that we made a ministerial error in our final margin calculation for Corus Staal. For both the preliminary and final results in this review the Department determined that all sales in the home market were made at the same level of trade. However, in both the preliminary and final comparison market programs, we failed to revise the level of trade variable reported by Corus Staal to reflect the Department's determination that all sales in the home market were at the same level of trade. For a detailed discussion of the ministerial error, as well as the Department's corrective programming, see the Analysis Memorandum to the File, from David Cordell, dated June 15, 2007.

Therefore, in accordance with section 751(h) of the Act and 19 CFR 351.224(e), we are amending the final results of the 2004-2005 antidumping duty administrative review of the order on certain hot-rolled carbon steel flat products from the Netherlands. The revised dumping margin is as follows:

Manufacturer/Exporter | Original Final Margin | Revised Final Margin
Corus Staal BV | 2.52 percent | 2.26 percent

The Department will disclose calculations performed for the amended final results to the parties within five days of the date of publication of this notice in accordance with 19 CFR 351.224(b).

Assessment

The Department shall determine, and U.S. Customs and Border Protection (CBP) shall assess, antidumping duties on all appropriate entries. In accordance with 19 CFR 351.212(b)(1), we have calculated importer-specific assessment rates for the merchandise based on the ratio of the total amount of antidumping duties calculated for the examined sales made during the POR to the total customs value of the sales used to calculate those duties. The Department will issue appropriate ad valorem assessment instructions directly to CBP 15 days after publication of these amended final results of review. We will direct CBP to assess the resulting assessment rate against the entered customs values for the subject merchandise on each of the importer's entries during the POR.

Cash Deposit Requirements

On May 4, 2007, the Department published a Federal Register notice that, inter alia, revoked this order, effective April 23, 2007. See Implementation of the Findings of the WTO Panel in US Zeroing (EC): Notice of Determinations Under Section 129 of the Uruguay Round Agreements Act and Revocations and Partial Revocations of Certain Antidumping Duty Orders, 72 FR 25261 (May 4, 2007). Therefore, there is no need to issue new cash deposit instructions for these amended final results of this administrative review.

These amended final results of this administrative review and this notice are issued and published in accordance with sections 751(h) and 777(i) of the Act and 19 CFR 351.224(e).

Dated: June 15, 2007.
David M. Spooner,
Assistant Secretary for Import Administration.

[FR Doc. E7-12119 Filed 6-21-07; 8:45 am]

Billing Code: 3510-DS-S